NUCLEAR REGULATORY COMMISSION

[NRC-2009-0491; Docket No. 50-315]

Indiana Michigan Power Company, Donald C. Cook Nuclear Plant, Unit 1; Environmental Assessment and Finding of No Significant Impact

The U.S. Nuclear Regulatory Commission (NRC) is considering issuance of an exemption from Title 10 of the Code of Federal Regulations (10 CFR) part 50, § 26.205(d)(4) [10 CFR 2.205(d)(4)], for Facility Operating License No. DPR-58, issued to Indiana Michigan Power Company (the licensee), for operation of the Donald C. Cook Nuclear Plant, Unit 1 (CNP-1), located in Berrien County. Therefore, as required by 10 CFR 51.21, the NRC is issuing this environmental assessment and finding of no significant impact.

Environmental Assessment

Identification of the Proposed Action

The proposed action is a one-time scheduler exemption from the requirements of 10 CFR 26.205(d)(4). Under routine work conditions, licensees shall ensure that work hour schedules for certain individuals meet the requirements as specified in 10 CFR 26.205(d)(3). The regulations permit licensees to use less restrictive work hour limits as specified in 10 CFR 26.205(d)(4) during the first 60 days of a unit outage. The proposed exemption would allow the less restrictive working hour limitations during a 60-day period that will encompass restart of CNP-1 from its current extended outage and would apply only to operations and maintenance personnel. Because CNP-1 entered its current outage in September 2008 and the first sixty days of the outage have elapsed, the less restrictive work hours of 10 CFR 26.205(d)(4) to support unit restart would not apply absent the exemption. The NRC is authorized to grant the exemption pursuant to 10 CFR 26.9.

The proposed action is in accordance with the licensee's request dated September 18, 2009 (Agencywide Documents Access and Management System (ADAMS) Accession No. ML092680722), as supplemented by letter dated October 15, 2009 (ADAMS Accession No. ML092990410).

The Need for the Proposed Action

The proposed action is requested to support restart activities for CNP-1 from the current extended forced outage which began on September 20, 2008, as a result of a main turbine failure. Operations and maintenance personnel are subject to the new working hour limitations specified in 10 CFR part 26, subpart I, implemented by the licensee on October 1, 2009. Since CNP-1 has been in its current outage for over one year, the less restrictive work hour requirements of 10 CFR 26.205(d)(4) would not be available to accommodate the increased workload associated with restart of CNP-1, as those requirements are only available for the first 60 days of a unit outage.

The licensee has requested a one-time scheduler exemption to allow use of the work hour limitations specified in 10 CFR 26.205(d)(4) to support restart activities from the current CNP-1 extended outage.

Environmental Impacts of the Proposed Action

The NRC has completed its evaluation of the proposed action and concludes that there are no environmental impacts associated with the proposed exemption. The details of the staff's safety evaluation will be provided in the exemption that will be issued as part of the letter to the licensee approving the exemption to the regulation.

The proposed action will not significantly increase the probability or consequences of accidents. No changes are being made in the types of effluents that may be released offsite. There is no significant increase in the amount of any effluent released offsite. There is no significant increase in occupational or public radiation exposure. Therefore, there are no significant radiological environmental impacts associated with the proposed action.

With regard to potential non-radiological impacts, the proposed action does not have any foreseeable impacts to land, air, or water resources, including impacts to biota. In addition, there are also no known socioeconomic or environmental justice impacts associated with such proposed action. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. Therefore, the environmental impacts of the proposed action and the alternative action are similar.

Alternative Use of Resources

The action does not involve the use of any different resources than those previously considered in the Final Environmental Statement related to operation of the Donald C. Cook Nuclear Plant, Units 1 and 2, dated August 1973, and the Generic Environmental Impact Statement for License Renewal of the Donald C. Cook Nuclear Plant, Units 1 and 2 (NUREG-1437, Supplement 20), dated May 2005.

Agencies and Persons Consulted

On October 19, 2009, the staff consulted with the Michigan State official, Mr. Ken Yale, of the Michigan Department of Environmental Quality, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated September 18, 2009. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 4th day of November 2009.
For The Nuclear Regulatory Commission.
Terry A. Beltz,
Senior Project Manager, Plant Licensing Branch III-1, Division of Operating Reactor Licensing, Office of Nuclear Reactor Regulation.

[FR Doc. E9-27057 Filed 11-9-09; 8:45 am]

BILLING CODE 7590-01-P